DEPARTMENT OF COMMERCE

Census Bureau

2006 American Community Survey Content Test

ACTION: Proposed collection; comment request.

SUMMARY: The Department of Commerce, as part of its continuing effort to reduce paperwork and respondent burden, invites the general public and other Federal agencies to take this opportunity to comment on the proposed an/or continuing information collections, as required by the Paperwork Reduction Act of 1995, Public Law 104-13 (44 U.S.C. 3506 (c)(2)(A)).

DATES: Written comments must be submitted on or before May 9, 2005.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Wendy D. Hicks, U.S. Census Bureau, Room 2027, SFC 2, Washington, DC 20233, (301) 763-2431 (or via the Internet at wendy.davis.hicks@census.gov).

SUPPLEMENTARY INFORMATION:

I. Abstract

Given the rapid demographic changes experienced in recent years and the strong expectation that such changes will continue and accelerate, the once-a-decade data collection approach of a decennial census is no longer acceptable for the mandated or required data traditionally collected on the census long-form. To meet the needs and expectations of the country, the Census Bureau developed the American Community Survey (ACS). This survey collects long-form data every month and provides tabulations of these data on a yearly basis. In the past, the long-form data were collected only at the time of each decennial census. The ACS allows the Census Bureau to remove the long form from the 2010 Census, thus reducing operational risks, improving accuracy, and providing more relevant data.

Full implementation of the ACS in 2005 includes an annual sample of approximately three million residential addresses in the 50 states and District of Columbia and another 36,000 residential addresses in Puerto Rico each year. While this large sample of addresses permits production of single year estimates for areas with a population of 65,000 or more, estimates at lower levels of geography require aggregates of three and five years worth of data. The year 2008 is the first year for significant changes to the ACS content since the 2001. From 2008 through 2012, it is important that the content of the ACS questions remain consistent for the three- and five-year aggregated data estimates that the ACS data will produce. 2008 will mark the beginning of a period during which both three- and five-year aggregated data estimates will be based on new or revised ACS content, and will also include data collection in the year that coincides with the next decennial census (2010). Given the significance of the year 2008, the ACS has committed to a research program during 2006 that will result in final content determination in time for the 2008 ACS. This research is the 2006 ACS Content Test.

The 2006 ACS Content Test includes four stages: (1) Identification of content eligible for testing, (2) content determination, (3) content test implementation, and (4) recommendations for final content in 2008. The first stage involves the joint efforts of multiple Federal agencies that either sponsor or use data from the ACS, as well as subject matter experts from within the Census Bureau. Together, they have demonstrated problems with existing questions or content on the ACS, such as out-of-date response categories, or more consequential problems such as questions resulting in estimates that seem systematically lower or higher than expected, based on comparisons to other sources. Additionally, recent or anticipated legislative action may result in identification of new content, not currently included on the ACS, for testing. In this phase, 11 of 25 existing housing questions, 15 of 43 existing socio-economic questions, and three new socio-economic questions were identified for inclusion in the second stage of the content test.

The second stage of the content test, content determination, includes cognitive laboratory pretesting, expert reviews and other pretesting methods for the purpose of developing alternate versions of question content identified as eligible for testing. As with the previous stage, representatives from numerous federal agencies, as well as other data users, have contributed to these early pretesting efforts by providing their subject matter expertise in the development of alternatives.

Content test implementation, the third stage, will include a national sample field test with approximately 50,000 residential addresses. About half of the sample will serve as the test panel for the content, and the other half will serve as the control panel, receiving the current content of the 2005 ACS. The ACS Content Test will reflect almost all of the same data collection methodology as used with the current ACS, starting with mailing a prenotice letter and then an initial mailing package with an ACS questionnaire to residential addresses selected for participation. As with the current ACS, Census Bureau will mail a second questionnaire to the sampled address if no response is received after three weeks. Census Bureau staff will then follow-up households that do not respond by using computer-assisted telephone interviewing (CATI) and computer-assisted personal interviewing (CAPI).

Operations for the 2006 ACS Content Test and the current ACS will differ in that the content test will not provide Telephone Questionnaire Assistance (TQA), nor will it include a Telephone Edit Follow-Up (TEFU) operation for mail respondents. The TQA operation provides direct assistance to respondents while answering the mail form, potentially influencing how they interpret and respond to questions. The TEFU operation follows-up with households that return a mail form to collect more complete data. The 2006 ACS Content Test excludes these two operations so that we can analyze data that most directly reflects the household's response to the questions.

Additionally, the 2006 ACS Content Test will differ from the current ACS in that the content test will include a CATI Content Follow-up as a method to measure simple response variance and response bias. Both response variance and response bias will serve as critical indicators of the quality of the test questions relative to the current versions of the ACS questions. Both English and Spanish languages will be available in the automated instruments used for this content test.

In the fourth and final stage, final content recommendations, an analysis of the data collected, including content follow-up data, will guide the selection of the versions of the questions that yield the highest quality data. Census Bureau analysts, subject matter experts, and experts from the other participating federal agencies will work together to determine the final question content based on the results of the test. The end product will reflect final content recommendation based on input from all participants. These recommendations are expected in the early part of January 2007, so that the Census Bureau can implement all the necessary changes to the existing ACS data collection materials (e.g., questionnaires, CATI/CAPI instruments, questionnaire instruction booklet, interviewer training materials, etc.) to reflect the final recommended questions/content in time for implementation of the 2008 ACS.

II. Method of Collection

The Census Bureau will mail prenotice letters and then paper questionnaires to households selected for the 2006 ACS Content Test. A reminder card is delivered to all sampled households that have not responded to the survey two weeks after the initial questionnaire was mailed. For households that do not return a questionnaire after three weeks, a second questionnaire is mailed to the non-responding household. After four weeks, Census Bureau staff will attempt to conduct interviews via CATI.

Census Bureau staff will conduct a CAPI for remaining non-response households after eight weeks. All responding households that include a telephone number on their returned questionnaire will be eligible for Content Follow-Up. The Content Follow-up reinterviews will start approximately two weeks after receipt of the first mail returns and continue for approximately two weeks after the closeout of CAPI operations.

III. Data

OMB Number: Not available.

Form Number(s): ACS-1(2006), ACS-1(2006)T, and a subset of questions from ACS-1(2006)T for Content Follow-up.

Type of Review: Regular.

Affected Public: Individuals and households.

Estimated Number of Respondents: During the period of January 2-March 31, 2006, we plan to contact a maximum of 50,000 residential addresses and approximately 30,000 responding households will be contacted for Content Follow-up.

Estimated Time Per Response: 38 minutes per residential address, 30 minutes per residential address for Content Follow-up.

Estimated Total Annual Burden Hours: 46,667.

Estimated Total Annual Cost: Except for their time, there is no cost to respondents.

Respondent Obligation: Mandatory.

Authority: Title 13, United States Code, Sections 141 and 193.

IV. Request for Comments

Comments are invited on (a) whether the proposed collection of information is necessary for the proper performance of the functions of the agency, including whether the information shall have practical utility; (b) the accuracy of the agency's estimate of the burden (including hours and cost) of the proposed collection of information; (c) ways to enhance the quality, utility, and clarity of the information on respondents, including through the use of automated collections techniques or other forms of information technology.

Comments submitted in response to this notice will be summarized and/or included in the request for the OMB approval of this information collection; they also will become a matter of public record.

Dated: March 4, 2005.
Madeleine Clayton,
Management Analyst, Office of the Chief Information Officer.

[FR Doc. 05-4578 Filed 3-8-05; 8:45 am]

BILLING CODE 3510-07-P